OFFICE OF THE UNITED STATES TRADE REPRESENTATIVE

Membership of the Performance Review Board (PRB)

AGENCY: Office of the United States Trade Representative.

SUMMARY: the following staff members are designated to serve on the Performance Review Board:

Performance Review Board (PRB)

Chair—Joseph Papovich.

Alternate Chair—Florie Liser.

Members—Regina Vargo, Ralph Ives, David Walters.

Executive Secretary—Lorraine Green.

EFFECTIVE DATE: August 22, 2001.

FOR FURTHER INFORMATION CONTACT: Lorraine Green, Director, Human Resources, (202) 395-7360.

John Hopkins,
Assistant United States Trade Representative for Administration.

[FR Doc. 01-22406 Filed 9-5-01; 8:45 am]

BILLING CODE 3190-01-M